FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 12, 2013.

A. Federal Reserve Bank of Richmond (Adam M. Drimer, Assistant Vice President) 701 East Byrd Street, Richmond, Virginia 23261-4528:

1. Kenneth Ray Lehman, Arlington Virginia; to acquire voting shares of Delmar Bancorp, Salisbury Maryland, and thereby indirectly acquire voting shares of The Bank of Delmarva, Seaford, Delaware.

B. Federal Reserve Bank of Chicago (Colette A. Fried, Assistant Vice President) 230 South LaSalle Street, Chicago, Illinois 60690-1414:

1. Ann Kennedy Irish; Ann Kennedy Irish, as trustee of the Ann Kennedy Irish Trust; the Ann Kennedy Irish Trust; David H. Irish, as trustee of the David H. Irish Trust; the David H. Irish Trust; Susan Irish Stewart, as trustee of the Susan Irish Stewart Revocable Intervivos Trust; the Susan Irish Stewart Revocable Intervivos Trust, all of Harbor Springs, Michigan; Tracy Irish Texter; Tracy Irish Texter; John F. Texter, as trustees of the John F. Texter and Tracy I. Texter Trust; the John F. Texter and Tracy I. Texter Trust, all of Middleville, Michigan; Colin David Irish, Marquette, Michigan; Perry Irish Hodgson; Alexander Irish Hodgson, and Raymond Earhart Hodgson, all of Charlevoix, Michigan; and Liam Foster Hodgson, Beaver Island, Michigan; all as members of the Hodgson Family Control Group, to retain voting shares of Charlevoix First Corporation, and thereby indirectly retain voting shares of Charlevoix State Bank, both in Charlevoix, Michigan.

Board of Governors of the Federal Reserve System, August 23, 2013.
Margaret McCloskey Shanks,
Deputy Secretary of the Board.

[FR Doc. 2013-20998 Filed 8-27-13; 8:45 am]

BILLING CODE 6210-01-P